DEPARTMENT OF COMMERCE

National Oceanic and Atmospheric Administration

[RTID 0648-XD834]

Endangered and Threatened Species; Recovery Plan for the Oceanic Whitetip Shark; Notice of Initiation of a 5-Year Review for the Oceanic Whitetip Shark

AGENCY: National Marine Fisheries Service (NMFS), National Oceanic and Atmospheric Administration (NOAA), Department of Commerce.

ACTION: Notice of availability; notice of initiation; request for information.

SUMMARY: The National Marine Fisheries Service (NMFS) announces the adoption of an Endangered Species Act (ESA) Recovery Plan for the threatened oceanic whitetip shark (Carcharhinus longimanus). The Recovery Plan and associated Recovery Implementation Strategy for this species are now available. We also announce the initiation of a 5-year review for the oceanic whitetip shark. NMFS is required by the ESA to conduct 5-year reviews to ensure that the listing classifications of species are accurate. The 5-year review must be based on the best scientific and commercial data available at the time of the review. We request submission of any such information on the oceanic whitetip shark, particularly information on the status, threats, and recovery of the species that has become available since it was listed in 2018.

DATES: To allow us adequate time to conduct this review, we must receive your information no later than September 9, 2024.

ADDRESSES: You may submit information on this document, identified by NOAA-NMFS-2024-0043, by the following method:

• Electronic Submission: Submit electronic information via the Federal e-Rulemaking Portal. Visit https://www.regulations.gov and type NOAA-NMFS-2024-0043 in the Search box. Click on the “Comment” icon, complete the required fields, and enter or attach your comments.

Instructions: Information sent by any other method, to any other address or individual, or received after the end of the specified period, may not be considered by NMFS. All information received is a part of the public record and will generally be posted for public viewing on https://www.regulations.gov without change. All personal identifying information (e.g., name, address, etc.), confidential business information, or otherwise sensitive or protected information submitted voluntarily by the sender will be publicly accessible. NMFS will accept anonymous submissions (enter “N/A” in the required fields if you wish to remain anonymous).

Electronic copies of the Recovery Plan and Recovery Implementation Strategy are available on the NMFS website at https://www.fisheries.noaa.gov/species/oceanic-whitetip-shark/conservation-management.

FOR FURTHER INFORMATION CONTACT: Kristen Koyama, (301) 427-8456, kristen.koyama@noaa.gov.

SUPPLEMENTARY INFORMATION:

The Recovery Plan

The ESA of 1973, as amended (16 U.S.C. 1531 et seq.), requires that we develop and implement recovery plans for the conservation and survival of threatened and endangered species under our jurisdiction, unless it is determined that such plans would not promote the conservation of the species. We listed the oceanic whitetip shark (Carcharhinus longimanus) as a threatened species under the ESA on January 30, 2018 (83 FR 4153). We published a Notice of Availability of the Draft Recovery Plan in the Federal Register on January 25, 2023 (88 FR 4817) to obtain public comments on the Draft Plan. We revised the Draft Plan based on the comment submissions received, along with peer review comments, and the revised version now constitutes the final Recovery Plan for the oceanic whitetip shark.

Recovery plans help identify and guide recovery needs for species listed under the ESA. Section 4(f)(1) of the ESA requires that recovery plans include, to the maximum extent practicable: (1) site-specific management actions necessary to achieve the plan's goal for the conservation and survival of the species; (2) objective, measurable criteria which, when met, would result in a determination that the species be removed from the list; and (3) estimates of the time required and cost to carry out those measures needed to achieve the recovery plan's goal.

The Recovery Plan addresses the recovery planning requirements of the ESA for the oceanic whitetip shark. It presents a recovery strategy based on the biological and ecological needs of the species, current threats, and existing conservation measures, all of which affect its long-term viability. The overall strategy to recover the oceanic whitetip shark is to minimize fishing mortality, the primary threat to the species, through a two-pronged approach: (1) reducing the frequency of fishing interactions, and (2) increasing survivorship before, during, and after interactions with fishing gear occur. Given the oceanic whitetip shark's range is largely outside of U.S. jurisdiction, the recovery strategy includes international cooperation through Regional Fisheries Management Organizations (RFMOs) and other international partners. The Recovery Plan identifies three recovery objectives that, collectively, describe the conditions necessary to achieve recovery: (1) Ensure the oceanic whitetip shark maintains resiliency and geographic representation, and is a functional component of the ecosystem, by increasing overall abundance to achieve viable populations in all ocean basins; (2) Increase oceanic whitetip shark resiliency by managing or eliminating significant anthropogenic threats; and (3) Ensure the continued viability of the oceanic whitetip shark through development and effective implementation of regulatory mechanisms for the long-term protection of the species. The Recovery Plan includes demographic and threats-based recovery criteria that can be used to help determine when a stable and sustainable population size has been reached and that threats from bycatch-related mortality in commercial fisheries, international trade of its fins, and inadequate regulatory mechanisms have been minimized, managed, or eliminated such that they are not contributing to the species being in danger of extinction within the foreseeable future. The Recovery Plan identifies recovery actions needed to improve knowledge and understanding of oceanic whitetip shark population dynamics, reduce fisheries bycatch and mortality, address impacts from international trade, improve monitoring and reporting of fisheries interactions with oceanic whitetip sharks, implement and enforce regulatory mechanisms, and increase public and stakeholder awareness through education and outreach strategies. Collectively, the objectives, recovery criteria, and recovery actions represent NMFS' expectations of conditions to recover the oceanic whitetip shark so the species may be removed from the list.

The Recovery Plan is accompanied by the Recovery Implementation Strategy, which is a flexible, operational document that provides specific, prioritized activities necessary to fully implement recovery actions in the plan. The activities in the Recovery Implementation Strategy may be modified to reflect changes in the information available as well as progress towards recovery. If/when the science indicates that meaningful changes to the recovery actions and criteria are necessary, the Recovery Plan will be revised and a revised draft will be made available for public comment before being finalized.

How NMFS and Others Expect To Use the Recovery Plan

With adoption of this Recovery Plan, we will seek to implement the actions and activities for which we have authority and funding; encourage other Federal, state, and local agencies to implement recovery actions and activities for which they have responsibility, authority, and funding; and work cooperatively with other partners and the public on implementation of other actions and activities. We expect the Recovery Plan to guide us and other Federal agencies in evaluating Federal actions under ESA section 7, as well as in implementing other provisions of the ESA, such as considering permits under section 10, and other statutes.

When we are evaluating the species' status in the future, such as during a 5-year review as required by section 4(c)(2) of the ESA, the agency will examine whether the ESA section 4(a)(1) listing factors have been addressed. To assist in this examination, we will also evaluate the delisting criteria described in the Recovery Plan, which include both demographic-based criteria and threats-based criteria addressing each of the ESA section 4(a)(1) listing factors, as well as any other relevant data and policy considerations.

Initiation of a 5-Year Review for the Oceanic Whitetip Shark and Public Solicitation of New Information

Section 4(c)(2)(A) of the ESA requires that we conduct a review of listed species at least once every 5 years. This will be the first review of this species pursuant to this provision of the ESA since it was listed in 2018 under the ESA. The regulations in 50 CFR 424.21 require that we publish a notice in the Federal Register announcing species currently under active review. On the basis of such reviews, we determine under section 4(c)(2)(B) whether any species should be removed from the list (i.e., delisted) or reclassified from endangered to threatened or from threatened to endangered (16 U.S.C. 1533(c)(2)(B)). As described by the regulations in 50 CFR 424.11(e), the Secretary shall delist a species if the Secretary determines based on consideration of the factors and standards set forth in paragraph (c) of that section, that the best scientific and commercial data available substantiate that: (1) the species is extinct; (2) the species has recovered to the point at which it no longer meets the definition of an endangered species or a threatened species; (3) new information that has become available since the original listing decision shows the listed entity does not meet the definition of an endangered species or a threatened species; or (4) new information that has become available since the original listing decision shows the listed entity does not meet the definition of a species. Any change in Federal classification would require a separate rulemaking process.

To ensure that the 5-year review is complete and based on the best available scientific and commercial information, we are soliciting new information from the public, governmental agencies, Tribes, the scientific community, industry, environmental entities, and any other interested parties concerning the status of the oceanic whitetip shark (C. longimanus). Categories of requested information include: (1) species biology including, but not limited to, population trends, distribution, abundance, demographics, and genetics; (2) habitat conditions including, but not limited to, amount, distribution, and important features for conservation; (3) status and trends of threats to the species and its habitats; (4) conservation measures that have been implemented that benefit the species, including monitoring data demonstrating effectiveness of such measures; and (5) other new information, data, or corrections including, but not limited to, taxonomic or nomenclatural changes and improved analytical methods for evaluating extinction risk.

If you wish to provide information for the review, you may submit your information and materials electronically (see ADDRESSES section). We request that all information be accompanied by supporting documentation such as maps, bibliographic references, or reprints of pertinent publications.

Conclusion

NMFS concludes that the Recovery Plan meets the requirements of the ESA section 4(f) and is therefore adopting it as the final Recovery Plan for the oceanic whitetip shark.

Authority: 16 U.S.C. 1531 et seq.

Dated: July 5, 2024.
Angela Somma,
Chief, Endangered Species Conservation Division, Office of Protected Resources, National Marine Fisheries Service.

[FR Doc. 2024-15186 Filed 7-10-24; 8:45 am]

BILLING CODE 3510-22-P